DEPARTMENT OF COMMERCE

Submission for OMB Review: Comment Request

The Department of Commerce (DOC) has submitted to the Office of Management and Budget (OMB) for clearance of the following proposal for collection of information under the provisions of the Paperwork Reduction Act of 1995, Public Law 104-13.

Agency: International Trade Administration (ITA).

Title: Trade Fair Certification Program: Application.

Agency Form Number: ITA-4100P.

OMB Approval Number: 0625-0130.

Type of Request: Regular submission.

Burden Hours: 900.

Number of Respondents: 90.

Average Hours Per Response: 10.

Needs and Uses: Private trade show organizers, trade associations, U.S. agents of foreign fair authorities, and other entities use this form to apply for certification of their ability to organize and manage a U.S. pavilion at a foreign trade show. The Department of Commerce uses information from the form to evaluate if both the show and the organizer meet the Department's high standards in areas such as recruiting, delivering show services, attracting small and medium size firms, booth pricing, and an appropriate marketing venue for U.S. firms. The form asks organizers to respond to 23 questions ranging from simple name and address to pricing options to outlining their experience and marketing plans. Potential exhibitors look to trade fair certification to ensure they are participating in a viable show with a reliable organizer. The form also includes information on where to apply, procedures, and commitment by the applicant to abide by the terms set forth for program participation.

Affected Public: Business or other for profit organizations, and not-for-profit institutions.

Frequency: On occasion.

Respondent's Obligation: Required to obtain or retain a benefit; voluntary.

OMB Desk Officer: David Rostker, (202) 395-3897.

Copies of the above information collection can be obtained by calling or writing Madeleine Clayton, Departmental Paperwork Clearance Officer, (202) 482-3129, Department of Commerce, Room 6608, 14th & Constitution Avenue, NW, Washington, DC 20230 or via the Internet at Mclayton@doc.gov.

Written comments and recommendations for the proposed information collection should be sent to David Rostker, OMB Desk Officer, Room 10202, New Executive Office Building, Washington, DC 20503 within 30 days of the publication of this notice in the Federal Register.

Dated: March 13, 2002.
Gwellnar Banks,
Management Analyst, Office of the Chief Information Officer.

[FR Doc. 02-6518 Filed 3-18-02; 8:45 am]

BILLING CODE 3510-FP-P